DEPARTMENT OF HEALTH AND HUMAN SERVICES

Health Resources and Services Administration

[OMB No. 0915-0368—Extension]

Agency Information Collection Activities: Submission to OMB for Review and Approval; Public Comment Request; Health Center Patient Survey

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period.

DATES: Comments on this ICR should be received no later than April 17, 2023.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the Acting HRSA Information Collection Clearance Officer, at 301-594-4394.

SUPPLEMENTARY INFORMATION: When submitting comments or requesting information, please include the information request collection title for reference.

Information Collection Request Title: Health Center Patient Survey.

OMB No. 0915-0368—Extension.

Abstract: HRSA-supported health centers (those entities funded under section 330 of the Public Health Service Act) deliver comprehensive, affordable, quality primary health care to over 30 million patients nationwide, regardless of their ability to pay. Nearly 1,400 health centers operate over 14,000 service delivery sites in every U.S. state, the District of Columbia, Puerto Rico, the U.S. Virgin Islands, and the Pacific Basin. In the past, HRSA conducted the Health Center Patient Survey (HCPS), which surveys patients of HRSA-funded health centers. The HCPS collects information about sociodemographic characteristics, health conditions, health behaviors, access to and utilization of health care services, and satisfaction with health care received at HRSA-funded health centers. The renewal of the HCPS will use the same modules from the 2022 HCPS (OMB #0915-0368). There is no change to the current survey instruments. Survey results come from in-person, one-on-one interviews with patients who are selected as representative of the Health Center Program patient population nationally.

A 60-day notice was published in the Federal Register on January 4, 2023, vol. 88, No. 2; pp. 361-362. There were no public comments.

Need and Proposed Use of the Information: The HCPS is unique because it focuses on comprehensive, nationally representative, individual level data from the perspective of health center patients. By investigating how well HRSA-funded health centers meet health care needs of the medically underserved and how patients perceive their quality of care, the HCPS serves as an empirically-based resource to inform HRSA policy, funding, and planning decisions.

Likely Respondents: Staff and patients at HRSA-supported health centers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Awardee Recruitment | 220 | 1 | 220 | 2.00 | 440.00
Site Recruitment and Training | 700 | 1 | 700 | 3.15 | 2,205.00
Patient Screening | 13,120 | 1 | 13,120 | .17 | 2,230.40
Patient Screening: Short Blessed Scale ¹ | 18 | 1 | 18 | .05 | 0.90
Patient Survey | 9,000 | 1 | 9,000 | 1.00 | 9,000.00
Total National Study | 23,058 |  | 23,058 |  | 13,876.30
¹ The Short Blessed Scale Form will be administered to respondents when a field interviewer believes that a person might be too cognitively impaired to participate in the survey. According to 2022 survey experience, only three eligible participants in the main survey were screened with this form.

Maria G. Button,
Director, Executive Secretariat.

[FR Doc. 2023-05482 Filed 3-16-23; 8:45 am]

BILLING CODE 4165-15-P